DEPARTMENT OF ENERGY

Federal Energy Regulatory Commission

[Docket No. CP01-4-001]

Maritimes & Northeast Pipeline, L.L.C.; Notice of Amendment

February 6, 2002.

Take notice that on January 23, 2002, Maritimes & Northeast Pipeline, L.L.C. (Maritimes), 1284 Soldiers Field Road, Boston, Massachusetts 02135, filed in Docket No. CP01-4-001, an application pursuant to Section 7(c) of the Natural Gas Act to amend the certificate of public convenience and necessity issued to Maritimes on December 21, 2001, in Docket Nos. CP01-4-000 (the Phase III Project), all as more fully set forth in the application which is on file with the Commission and open to public inspection. Copies of this filing are on file with the Commission and are available for public inspection. This filing may also be viewed on the Web at http://www.ferc.gov using the “RIMS” link, select “Docket #” and follow the instructions (call 202-208-2222 for assistance).

Specifically, Maritimes proposes to increase the diameter of a one-mile segment of pipeline at the Beverly, Massachusetts terminus of its Phase III Project from a 24-inch diameter pipe to a 30-inch diameter pipe. Maritimes will also perform minor modifications at its Salem Metering Station to reflect a single 30-inch diameter pipeline for the entire Phase III Project, including the elimination of a 24-inch pig launcher and a 30-inch receiver that will no longer be necessary. Maritimes estimates that the cost of modifying the one mile of Phase III Project pipeline will increase the cost of the project by approximately $3.5 million. Maritimes acknowledges that it will have the burden of proof in any future rate case if it seeks to roll these additional costs into its system-wide rates. Maritimes asserts that the need for the amended authorization is dependent upon Algonquin Gas Transmission Company's related filing in Docket No. CP01-5-002 to increase its HubLine Project pipeline to 30-inch diameter line.

Any questions regarding the application should be directed to Joseph F. McHugh, Director, Regulatory Affairs, M&N Management Company, 1284 Soldiers Field Road, Boston, Massachusetts 02135 at 617-560-1518.

There are two ways to become involved in the Commission's review of this project. First, any person wishing to obtain legal status by becoming a party to the proceedings for this project should, on or before February 27, 2002, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. The preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests, and interventions may be filed electronically via the Internet in lieu of paper. See, 18 CFR 385.2001(a)(1)(iii) and the instructions on the Commission's Web site under the “e-Filing” link.

If the Commission decides to set the application for a formal hearing before an Administrative Law Judge, the Commission will issue another notice describing that process. At the end of the Commission's review process, a final Commission order approving or denying a certificate will be issued.

Magalie R. Salas,
Secretary.

[FR Doc. 02-3326 Filed 2-11-02; 8:45 am]

BILLING CODE 6717-01-P